DEPARTMENT OF TRANSPORTATION

Federal Aviation Administration

[Docket No. FAA-2018-0649]

Discontinuation of Hazardous Inflight Weather Advisory Service (HIWAS) in the Contiguous United States

AGENCY: Federal Aviation Administration (FAA), DOT.

ACTION: Notice of final decision.

SUMMARY: This action sets forth the final determination by the FAA to discontinue the Hazardous Inflight Weather Advisory Service (HIWAS).

DATES: This action begins January 8, 2020.

FOR FURTHER INFORMATION CONTACT: Jeff Black, Flight Service, Federal Aviation Administration, 800 Independence Avenue SW, Washington, DC 20591; telephone: (202) 267-6500.

SUPPLEMENTARY INFORMATION:

Background

Hazardous Inflight Weather Advisory Service (HIWAS) is a continuous broadcast of weather advisories over a limited nationwide network of VORs that provide pilots with meteorological information relating to hazardous weather. Since the early 1980s, the broadcast, available in various locations of the contiguous United States (CONUS) allows pilots to access hazardous weather information while inflight without going through a Flight Service specialist.

With the advent of the internet and other technology, the demand for inflight services from Flight Service specialists has declined. Staffing was 3,000+ specialists in more than 300 facilities during the early 1980s and now consists of three hub facilities. In 2018, radio contacts dropped to less than 900 per day from an average of 10,000 radio contacts per day.

Demand for inflight services has diminished since the inception of HIWAS while access has never been greater, which indicates that pilots are migrating to other means of obtaining inflight weather advisories. Multiple sources are available that provide access to weather and aeronautical information to pilots in the cockpit, often presented in a graphical format, making it easier to visualize what is going on along the route of flight. Pilots are no longer limited to only contacting a Flight Service specialist in order to adhere to 14 CFR 91.103, numerous options are available to them to help maintain awareness of hazardous weather advisories along their route of flight.

On July 23, 2018, the FAA published a notice of proposal to discontinue HIWAS in the CONUS.

Discussions of Comments

The FAA received 27 comments on the proposed agency action. The following summary identifies the issues raised from all the commenters to our initial proposal but does not restate each comment received. Thirteen (13) comments either supported the initiative or were neutral towards the FAA's proposal. Three (3) comments did not apply as they referred to HIWAS in Alaska, which does not exist. Of the remaining comments, a number of them focused on technology and the inability of pilots to obtain weather from alternate sources such as Electronic Flight Bags (EFB), Flight Information Services-Broadcast (FIS-B), or similar digital products. Commenters cited costs, aging aircraft, and lack of infrastructure as reasons to retain the broadcast.

FAA air traffic controllers (ATC) will continue to advise pilots of hazardous weather that may affect operations within 150 nautical miles of their sector or area of jurisdiction. Hazardous weather information includes Airmen's Meteorological Information (AIRMET), Significant Meteorological Information (SIGMET), Convective SIGMET (WST), Urgent Pilot Reports (UUA), and Center Weather Advisories (CWA). ATC will also direct pilots to contact a Flight Service Specialist through an air-to-ground radio frequency if they need additional information.

A number of commenters, including the Aircraft Owners and Pilots Association (AOPA), cited safety concerns with the removal of this service because pilots may unexpectedly encounter hazardous weather and have no other means to obtain the information. In addition, AOPA surveys indicated that a small segment of pilots rely on HIWAS to satisfy their need for adverse weather information while en route. The FAA instituted FIS-B as a replacement for this legacy system that provides a range of aeronautical information products and often in a graphical format, which is not available via HIWAS. For pilots who choose not to equip their aircraft with this new technology, as noted earlier, a Flight Service Specialist is still available over a radio outlet.

A Safety Risk Management Panel was held on February 26, 2019 to review this proposal and address the concerns raised by stakeholders.¹ The panel consisted of representatives throughout the FAA and industry, including AOPA. The panel reviewed all comments noted above and the participants were unanimous in their opinion that removing the legacy service would not add any additional risk to the National Airspace System.

¹ The SRMP was held after the close of the comment period to address concerns raised by commenters.

To the extent that AOPA expressed concerns that FAA should update its guidance material to address the discontinuance of HIWAS, the FAA notes that all FAA documents, exams, and orders will be updated to reflect this change. The FAA published articles and safety team emails to inform pilots of this change and will issue Notices to Airmen (NOTAMs) for every outlet where the service is to be discontinued prior to removal from the charts and other publications.

Final Decision

In accordance with the above, the FAA will discontinue the Hazardous Inflight Weather Advisory Service in the contiguous United States, effective January 8, 2020.

As part of FAA efforts to modernize and streamline service delivery, the agency will discontinue the Hazardous Inflight Weather Advisory Service. The FAA will issue Notices to Airmen (NOTAM) and conduct outreach to inform pilots that the service is no longer available.

Issued in Washington, DC, on: December 3, 2019.
Steven Villanueva,
Flight Service Director, Federal Aviation Administration.

[FR Doc. 2019-26386 Filed 12-6-19; 8:45 am]

BILLING CODE 4910-13-P